DEPARTMENT OF HEALTH AND HUMAN SERVICES

National Institutes of Health

Proposed Collection; Comment Request; Revision of OMB# 0925-0002 Ruth L. Kirschstein NRSA Individual Fellowship Application

SUMMARY: In compliance with the requirement of Section 3506(c)(2)(A) of the Paperwork Reduction Act of 1995, for opportunity for public comment on proposed data collection projects, the Office of Extramural Research, the National Institutes of Health (NIH) will publish periodic summaries of proposed projects to be submitted to the Office of Management and Budget (OMB) for review and approval.

Proposed Collection: Title: Ruth L. Kirschstein NRSA Individual Fellowship Application. Type of Information Collection Request: Revision of a currently approved collection. Form Numbers: The PHS 416-1, 416-9, 416-5, 416-6031, 6031-1, Need and Use of Information Collection: The PHS 416-1 and 416-9 are used by individuals to apply for direct research training support. Awards are made to individual applicants for specified training proposals in biomedical and behavioral research, selected as a result of a national competition. The other related forms (PHS 416-5, 416-7, 6031, 6031-1) are used by these individuals to activate, terminate, and provide for payback of a National Research Service Award. Affected Public: Individuals or households; business or other for profit; not-for-profit institutions; Federal Government; and State, Local or Tribal government. Type of Respondents: Adult scientific trainees and professionals. The annual reporting burden is represented in the following table:

Type of respondents | Estimated number of respondents | Estimated number of responses per respondent | Average burden hours per response | Estimated total annual burden hours requested
Applicants | 81,837.60 | 1.0834 | 2.658 | 235,665.86
Referee | 7,268.56 | 1.0834 | 2.658 | 20,931.11
Totals | 89,106.16 | 1.0834 | 2.658 | 256,596.97

There are no Capital Costs to report. There are no Operating or Maintenance Costs to report.

Request For Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriated automated, electronic, mechanical, or other technological collection techniques or other forms of information technology.

FOR FURTHER INFORMATION CONTACT: To request more information on the proposed project or to obtain a copy of the data collection plans and instruments, contact: Ms. Mikia Currie Division of Grants Policy for Extramural Research Administration, NIH, Rockledge 1 Suite 350, Room 3505, 6705 Rockledge Drive, Bethesda, MD 20892-7974, or call non-toll-free number (301) 435-0941 or E-mail your request, including your address to: curriem@od.nih.gov.

Comments Due Date: Comments regarding this information collection are best assured of having their full effect if received within 60 days of the date of this publication.

Dated: March 7, 2005.
Joe Ellis,
Acting Director for OPERA.

[FR Doc. 05-5200 Filed 3-15-05; 8:45 am]

BILLING CODE 4140-01-M